DEPARTMENT OF LABOR

Employment and Training Administration

Comment Request for Information Collection for Workforce Information Grants to States, Extension With Revisions

AGENCY: Employment and Training Administration (ETA), Labor.

ACTION: Notice.

SUMMARY: The U.S. Department of Labor (Department), as part of its continuing effort to reduce paperwork and respondent burden, conducts a preclearance consultation program to provide the public and Federal agencies with an opportunity to comment on proposed and/or continuing collections of information in accordance with the Paperwork Reduction Act (PRA) of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about the Workforce Information Grants to States (WIGS), U.S. Office of Management and Budget (OMB) Control Number 1205-0417 that expires on July 31, 2014. ETA is requesting an addition to the collection requirements for these data, as well as requesting a three year extension.

DATES: Written comments must be submitted to the office listed in the addresses section below on or before October 7, 2013.

ADDRESSES: Submit written comments to Anthony Dais or Frank Gallo, Office of Workforce Investment, Room C-4526, Employment and Training Administration, U.S. Department of Labor, 200 Constitution Avenue NW., Washington, DC 20210. Telephone numbers 202-693-2784 or 202-693-3755, respectively (these are not toll-free numbers). Individuals with hearing or speech impairments may access the telephone numbers above via TTY by calling the toll-free Federal Information Relay Service at 1-877-889-5627 (TTY/TDD). Fax: 202-693-3015. Email: Dais.Anthony@DOL.gov or Gallo.Frank@dol.gov, respectively. A copy of the proposed information collection request (ICR) can be obtained by contacting the office listed above or at the Labor Market Information WIN-WIN Network Community of Practice Web site (https://winwin.workforce3one.org/view/1001317540353607180/info).

SUPPLEMENTARY INFORMATION:

I. Background

On July 24, 2011, OMB approved ETA's annual policy guidance and application instructions for the Workforce Information Grants to States under OMB Control Number 1205-0417. ETA now requests OMB approval to make a change to this information collection. The purpose of this information collection is to comply with the Workforce Investment Act (WIA) Public Law 105-220, Sections 111(d)(8) and 309 (29 U.S.C. 2821(d)(8) and 49(l)(2), to maximize the use of workforce and economic information in employment and training programs and other activities at the state and local level. The data and workforce information services provided through WIGS support the development of data-driven policy, inform training and employment program design and investment decision-making, support consultations with strategic partners, and leverage limited labor market information-workforce information (LMI-WI) program grant resources. State workforce agencies use WIGS to develop and disseminate essential state and local LMI-WI for job seekers, employers, educators, economic developers, and others.

The addition to the currently approved information collection is to request that states submit their annual narrative progress reports on grant deliverables electronically using a reporting system that will allow DOL and the states to mine the reported data to identify successful practices, trends, challenges, and suggestions for improvement.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revision.

Title: Workforce Information Grants to States.

OMB Number: 1205-0417.

Affected Public: States and Territories.

Form(s): N/A.

Total Annual Respondents: 54.

Data collection activity | Number of respondents | Responses per year | Average time per response (hours)
Required economic report or analyses | 54 | 1 | 434
Annual report to ETA | 54 | 1 | 80
New annual reporting system | 54 | 1 | 1

Total Annual Other Burden Cost for Respondents: 0.

Comments submitted in response to this comment request will be summarized and/or included in the request for OMB approval of the ICR; they will also become a matter of public record.

Dated: July 25, 2013.
Eric M. Seleznow,
Acting Assistant Secretary for Employment and Training, Labor.

[FR Doc. 2013-19059 Filed 8-6-13; 8:45 am]

BILLING CODE 4510-FN-P